DEPARTMENT OF STATE

[Public Notice: 9577]

In the Matter of the Designation of Samir Kuntar, Also Known as Samir Quntar, Also Known as Sameer Kantar, Also Known as Samir Al-Kuntar, Also Known as Samir Qantar, Also Known as Samir Kintar, Also Known as Samir Qintar, Also Known as Samir Cantar as a Specially Designated Global Terrorist

In accordance with section 1(b) of Executive Order 13224 of September 23, 2001, as amended (“the Order”), I hereby determine the individual known as Samir Kuntar, also known as Samir Quntar, also known as Sameer Kantar, also known as Samir Al-Kuntar, also known as Samir Qantar, also known as Samir Kintar, also known as Samir Qintar, also known as Samir Cantar, no longer meets the criteria for designation under the Order, and therefore I hereby revoke the designation of the aforementioned individual as a Specially Designated Global Terrorist pursuant to section 1(b) of the Order.

This notice shall be published in the Federal Register.

Dated: April 27, 2016.
John F. Kerry,
Secretary of State.

[FR Doc. 2016-11984 Filed 5-19-16; 8:45 am]

BILLING CODE 4710-AD-P